DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

—
State and county | Location and case No. | Date and name of newspaper where notice was published | Chief executive officer of community | Effective date of modification | Community No.
Arkansas: Benton (FEMA Docket No.: B-7467) | City of Rogers (05-06-0683P) | June 21, 2006; June 28, 2006; Arkansas Democrat Gazette Rogers Hometown News | The Honorable Steve Womack, Mayor, City of Rogers, 300 West Poplar Street, Rogers, Arkansas 72756 | May 25, 2006 | 050013
California:
Marin (FEMA Docket No.: B-7467) | City of Novato (05-09-A080P) | January 11, 2006; January 18, 2006; Novato Advance | The Honorable Carole D. Knutson, Mayor, City of Novato, 75 Rowland Way, Suite 200, Novato, California 94945-5054 | April 19, 2006 | 060178
Merced (FEMA Docket No.: B-7467) | City of Atwater (05-09-0622P) | February 16, 2006; February 23, 2006; Merced Sun-Star | The Honorable Rudy Trevino, Mayor, City of Atwater, 750 Bellevue Road, Atwater, California 95301 | January 26, 2006 | 060189
Merced (FEMA Docket No.: B-7467) | Unincorporated Areas of Merced County (05-09-0622P) | February 16, 2006; February 23, 2006; Merced Sun-Star | Mr. Demetrios O. Tatum, County Executive Officer, Merced County, Merced County Administration Building, 2222 M Street, Merced, California 95340 | January 26, 2006 | 060188
Monterey (FEMA Docket No.: B-7467) | City of Marina (05-09-A506P) | May 11, 2006; May 18, 2006; The Salinas Californian | The Honorable Ila Mettee-McCutchon, Mayor, City of Marina, 211 Hillcrest, Marina, California 93933 | August 17, 2006 | 060727
Placer (FEMA Docket No.: B-7467) | City of Roseville (05-09-1257P) | June 21, 2006; June 28, 2006; The Press-Tribune | The Honorable Gina Garbolino, Mayor, City of Roseville, 311 Vernon Street, Roseville, California 95678 | September 27, 2006 | 060243
Riverside (FEMA Docket No.: B-7467) | City of Norco (04-09-1444P) | November 16, 2005; November 23, 2005;The Press-Enterprise | Mr. Jeff Allred, City Manager, City of Norco, 2870 Clark Avenue, Norco, California 92860 | February 22, 2006 | 060256
Riverside (FEMA Docket No.: B-7467) | City of La Quinta (04-09-1145P) | February 9, 2006; February 16, 2006; The Press-Enterprise | The Honorable Donald Adolph, Mayor, City of La Quinta, P.O. Box 1504, La Quinta, California 92247 | January 19, 2006 | 060709
Riverside (FEMA Docket No.: B-7467) | City of Lake Elsinore (06-09-B090P) | June 15, 2006; June 22, 2006; The Press-Enterprise | The Honorable Robert Magee, Mayor, City of Lake Elsinore, Administrative Office, City Hall, 130 South Main Street, Lake Elsinore, California 92530 | September 21, 2006 | 060636
San Joaquin (FEMA Docket No.: B-7467) | City of Lathrop (06-09-B114P) | April 27, 2006; May 4, 2006; The Record | The Honorable Apolinar Sangalang, Mayor, City of Lathrop, 16775 Howland Road, Suite 1, Lathrop, California 95330 | April 13, 2006 | 060738
Santa Clara (FEMA Docket No.: B-7467) | City of Palo Alto (06-09-A606P) | July 19, 2006; July 26, 2006; Palo Alto Weekly | The Honorable Judy Kleinberg, Mayor, City of Palo Alto, 250 Hamilton Avenue, Palo Alto, California 94301 | October 25, 2006 | 060348
Santa Clara (FEMA Docket No.: B-7467) | City of San Jose (05-09-0938P) | March 16, 2006; March 23, 2006; San Jose Mercury News | The Honorable Ron Gonzales, Mayor, City of San Jose, 200 East Santa Clara Street, San Jose, California 95113 | June 22, 2006 | 060349
Santa Clara (FEMA Docket No.: B-7467) | City of San Jose (05-09-A216P) | March 23, 2006; March 30, 2006; San Jose Mercury News | The Honorable Ron Gonzales, Mayor, City of San Jose, 200 East Santa Clara Street, San Jose, California 95113 | February 28, 2006 | 060349
Ventura (FEMA Docket No.: B-7467) | City of Simi Valley (05-09-0780P) | February 2, 2006; February 9, 2006; Ventura County Star | The Honorable Paul Miller, Mayor, City of Simi Valley, 2929 Tapo Canyon Road, Simi Valley, California 93063 | May 11, 2006 | 060421
Ventura (FEMA Docket No.: B-7467) | City of Simi Valley (06-09-A639P) | May 18, 2006; May 25, 2006; Ventura County Star | The Honorable Paul Miller, Mayor, City of Simi Valley, 2929 Tapo Canyon Road, Simi Valley, California 93063 | August 24, 2006 | 060421
Adams (FEMA Docket No.: B-7467) | City of Thornton (06-08-A627X) | December 16, 2005; December 23, 2005; Eastern Colorado News | The Honorable Noel Busck, Mayor, City of Thornton, 9500 Civic Center Drive, Thornton, Colorado 80229 | March 24, 2006 | 080007
Arapahoe (FEMA Docket No.: B-7467) | City of Centennial (05-08-0333P) | January 19, 2006; January 26, 2006; The Littleton Independent | The Honorable Randy Pye, Mayor, City of Centennial, 12503 East Euclid Drive, Suite 200, Centennial, Colorado 80111 | April 27, 2006 | 080315
Arapahoe (FEMA Docket No.: B-7467) | Unincorporated Areas of Arapahoe County (05-08-0333P) | January 19, 2006; January 26, 2006; The Littleton Independent | The Honorable Lynn Myers, Chair, Arapahoe County Board of Commissioners, 5334 South Prince Street, Littleton, Colorado 80166-0001 | April 27, 2006 | 080011
Douglas (FEMA Docket No.: B-7467) | Town of Parker (06-08-B014P) | March 30, 2006; April 6, 2006; Douglas County News-Press | The Honorable David Casiano, Mayor, Town of Parker, 20120 East Mainstreet, Parker, Colorado 80138 | March 8, 2006 | 080310
Douglas (FEMA Docket No.: B-7467) | Town of Parker (06-08-B338P) | August 10, 2006; August 17, 2006; Douglas County News-Press | The Honorable David Casiano, Mayor, Town of Parker, 20120 East Main Street, Parker, Colorado 80138-7334 | July 26, 2006 | 080310
Douglas (FEMA Docket No.: B-7467) | Unincorporated Areas of Douglas County (06-08-B010P) | May 11, 2006; May 18, 2006; Douglas County News-Press | The Honorable Walter Maxwell, Chairman, Douglas County Board of Commissioners, 100 Third Street, Castle Rock, Colorado 80104 | April 10, 2006 | 080049
Douglas (FEMA Docket No.: B-7467) | Unincorporated Areas of Douglas County (06-08-B338P) | August 10, 2006; August 17, 2006; Douglas County News-Press | The Honorable Walter Maxwell, Chairman, Douglas County Board of Commissioners, 100 Third Street, Castle Rock, Colorado 80104 | July 26, 2006 | 080049
El Paso (FEMA Docket No.: B-7467) | City of Colorado Springs (04-08-0651P) | April 19, 2006; April 26, 2006; El Paso County Advertiser and News | The Honorable Lionel Rivera, Mayor, City of Colorado Springs, P.O. Box 1575, Colorado Springs, Colorado 80901 | July 26, 2006 | 080060
El Paso (FEMA Docket No.: B-7467) | City of Colorado Springs (05-08-0575P) | May 17, 2006; May 24, 2006; El Paso County Advertiser and News | The Honorable Lionel Rivera, Mayor, City of Colorado Springs, P.O. Box 1575, Colorado Springs, Colorado 80901 | August 23, 2006 | 080060
El Paso (FEMA Docket No.: B-7467) | City of Colorado Springs (05-08-0586P) | March 1, 2006; March 8, 2006; El Paso County Advertiser and News | The Honorable Lionel Rivera, Mayor, City of Colorado Springs, P.O. Box 1575, Colorado Springs, Colorado 80901 | June 7, 2006 | 080060
El Paso (FEMA Docket No.: B-7467) | City of Colorado Springs (06-08-B006P) | February 22, 2006; March 1, 2006; El Paso County Advertiser and News | The Honorable Lionel Rivera, Mayor, City of Colorado Springs, P.O. Box 1575, Colorado Springs, Colorado 80901 | February 14, 2006 | 080060
El Paso (FEMA Docket No.: B-7467) | City of Fountain (05-08-0089P) | November 16, 2005; November 23, 2005;El Paso County Advertiser and News | The Honorable Ken Barela, Mayor, City of Fountain, 116 South Main Street, Fountain, Colorado 80817 | February 22, 2006 | 080061
El Paso (FEMA Docket No.: B-7467) | Unincorporated areas of El Paso County (04-08-0651P) | April 19, 2006; April 26, 2006; El Paso County Advertiser and News | The Honorable Jim Bensberg, Chairman, El Paso County Board of Commissioners, 27 East Vermijo Avenue, Colorado Springs, Colorado 80903 | July 26, 2006 | 080059
El Paso (FEMA Docket No.: B-7467) | Unincorporated Areas of El Paso County (05-08-0089P) | November 16, 2005; November 23, 2005;El Paso County Advertiser and News | The Honorable Jim Bensberg, Chairman, El Paso County Board of Commissioners, 27 East Vermijo Avenue, Colorado Springs, Colorado 80903 | February 22, 2006 | 080059
El Paso (FEMA Docket No.: B-7467) | Unincorporated Areas of El Paso County (05-08-0586P) | March 1, 2006; March 8, 2006; El Paso County Advertiser and News | The Honorable Jim Bensberg, Chairman, El Paso County Board of Commissioners, 27 East Vermijo Avenue, Colorado Springs, Colorado 80903-2208 | June 7, 2006 | 080059
Florida:
Hillsborough (FEMA Docket No.: B-7467) | Unincorporated Areas of Hillsborough County (05-04-1536P) | August 24, 2006; August 31, 2006; St. Petersburg Times | Ms. Patricia G. Bean, County Administrator, Hillsborough County, County Center, 26th Floor, 601 East Kennedy Boulevard, Tampa, Florida 33602 | November 30, 2006 | 120112
Leon (FEMA Docket No.: B-7467) | City of Tallahasee (05-04-2969P) | May 18, 2006; May 25, 2006; Tallahasee Democrat | The Honorable John Marks, Mayor, City of Tallahassee, 300 South Adams Street, Tallahasse, Florida 32301 | August 24, 2006 | 120144
Orange (FEMA Docket No.: B-7467) | City of Orlando (06-04-BH16P) | June 29, 2006; July 6, 2006; Orlando Weekly | The Honorable Buddy Dyer, Mayor, City of Orlando, P.O. Box 4990, Orlando, Florida 32802 | June 14, 2006 | 120186
Orange (FEMA Docket No.: B-7467) | City of Winter Park (06-04-BH16P) | June 29, 2006; July 6, 2006; Orlando Weekly | The Honorable Kenneth Marchman, Mayor, City of Winter Park, 401 Park Avenue South, Winter Park, Florida 32789 | June 14, 2006 | 120188
Orange (FEMA Docket No.: B-7467) | Unincorporated Areas of Orange County (06-04-BH16P) | June 29, 2006; July 6, 2006; Orlando Weekly | The Honorable Richard T. Crotty, Mayor, Orange County, 201 South Rosalind Avenue, Fifth Floor, Orlando, Florida 32801 | June 14, 2006 | 120179
Pasco (FEMA Docket No.: B-7467) | Unincorporated Areas of Pasco County (05-04-1536P) | August 24, 2006; August 31, 2006; St. Petersburg Times | Mr. John J. Gallagher, County Administrator, Pasco County, West Pasco Government Center, 7530 Little Road, Suite 340, New Port Richey, Florida 34654 | November 30, 2006 | 120230
Pinellas (FEMA Docket No.: B-7467) | Unincorporated Areas of Pinellas (05-04-1536P) | August 24, 2006; August 31, 2006; St. Petersburg Times | Mr. Steve Spratt, County Administrator, Pinellas County, 315 Court Street, Clearwater, Florida 33756 | November 30, 2006 | 125139
Polk (FEMA Docket No.: B-7467) | Village of Highland Park (06-04-BP16) | July 27, 2006; August 3, 2006; The Polk County Democrat | The Honorable Earl Sehi, Mayor, Village of Highland Park, 1317 North Highland Park Drive, Lake Wales, Florida 33853 | October 23, 2006 | 120386
Polk (FEMA Docket No.: B-7467) | City of Lakeland (04-04-B007P) | January 5, 2006; January 12, 2006; Polk County Democrat | The Honorable Ralph L. Fletcher, Mayor, City of Lakeland, 228 South Massachusetts Avenue, Lakeland, Florida 33801-5012 | April 13, 2006 | 120267
Polk (FEMA Docket No.: B-7467) | City of Lakeland (05-04-2888P) | November 10, 2005; November 17, 2005;The Polk County Democrat | The Honorable Ralph L. Fletcher, Mayor, City of Lakeland, 228 South Massachusetts Avenue, Lakeland, Florida 33801-5012 | October 31, 2005 | 120267
Polk (FEMA Docket No.: B-7467) | Unincorporated Areas of Polk County (04-04-B007P) | January 5, 2006; January 12, 2006; Polk County Democrat | Mr. Michael Herr, County Manager, Polk County, P.O. Box 9005, Drawer BC01, Bartow, Florida 33831-9005 | April 13, 2006 | 120261
Polk (FEMA Docket No.: B-7467) | Unincorporated Areas of Polk County (05-04-1186P) | June 5, 2006; June 12, 2006; The Polk County Democrat | Mr. Michael Herr, County Manager, Polk County, P.O. Box 9005, Drawer BC01, Bartow, Florida 33831-9005 | May 19, 2006 | 120261
Polk (FEMA Docket No.: B-7467) | Unincorporated Areas of Polk County (05-04-1899P) | November 14, 2005; November 21, 2005;The Polk County Democrat | Mr. Michael Herr, County Manager, Polk County, P.O. Box 9005, Drawer BC01, Bartow, Florida 33831-9005 | November 8, 2005 | 120261
Polk (FEMA Docket No.: B-7467) | Unincorporated Areas of Polk County (05-04-BP16P) | July 27, 2006; August 3, 2006; The Polk County Democrat | Mr. Michael Herr, County Manager, Polk County, P.O. Box 9005, Drawer BC01, Bartow, Florida 33831-9005 | October 23, 2006 | 120261
Santa Rosa (FEMA Docket No.: B-7467) | Unincorporated Areas of Santa Rosa County (06-04-BA86P) | May 17, 2006; May 24, 2006; Santa Rosa's Press Gazette | The Honorable Robert A. “Bob” Cole, Chairman, Board of County Commissioners, Santa Rosa County, 6495 Caroline Street, Suite M, Milton, Florida 32570 | August 23, 2006 | 120274
Illinois:
Adams (FEMA Docket No.: B-7467) | City of Quincy (05-05-2301P) | August 24, 2006; August 31, 2006; Quincy Herald-Whig | The Honorable John A. Spring, Mayor, City of Quincy, 730 Maine Street, Quincy, Illinois 62301 | July 31, 2006 | 170003
Adams (FEMA Docket No.: B-7467) | Unincorporated Areas of Adams County (05-05-2301P) | August 24, 2006; August 31, 2006; Quincy Herald-Whig | The Honorable Mike McLaughlin, Chairman, Adams County Board, 521 Vermont Street, Quincy, Illinois 62301 | July 31, 2006 | 170001
Cook (FEMA Docket No.: B-7467) | Unincorporated Areas of Cook County (05-05-1222P) | February 16, 2006; February 23, 2006; Daily Herald | The Honorable John H. Stronger, Jr., President, Cook County Board of Commissioners, 118 North Clark Street, Room 537, Chicago, Illinois 60602 | May 25, 2006 | 170054
Kankakee (FEMA Docket No.: B-7467) | Village of Manteno (06-05-BE61P) | June 22, 2006; June 29, 2006; Daily Journal | The Honorable Timothy Nugent, Mayor, Village of Manteno, 269 North Main Street, Manteno, Illinois 60950 | September 28, 2006 | 170878
Kendall (FEMA Docket No.: B-7467) | Unincorporated Areas of Kendall County (06-05-B570P) | April 13, 2006; April 20, 2006; Kendall County Record | The Honorable Paul Anderson, County Clerk, Kendall County, 111 Fox Street, Yorkville, Illinois 60560 | March 27, 2006 | 170341
La Salle (FEMA Docket No.: B-7467) | Unincorporated Areas of La Salle County (05-05-1524P) | April 19, 2006; April 26, 2006; The Mendota Reporter | Mr. Glen (Joe) Dougherty, Chairman, La Salle County Board of Commissioners, 707 Etna Road, Ottawa, Illinois 61350 | March 24, 2006 | 170400
Will (FEMA Docket No.: B-7467) | Village of Plainfield (06-05-B013P) | August 24, 2006; August 31, 2006; Daily Southtown | The Honorable James A. Waldorf, Village President, Village of Plainfield, 14000 West Lockport Street, Plainfield, Illinois 60544 | November 30, 2006 | 170771
Will (FEMA Docket No.: B-7467) | Unincorporated Areas of Will County (05-05-3131P) | March 23, 2006; March 30, 2006; Daily Southtown | The Honorable Lawrence M. Walsh, Will County Executive, 302 North Chicago Street, Joliet, Illinois 60432 | June 29, 2006 | 170695
Will (FEMA Docket No.: B-7467) | Unincorporated Areas of Will County (06-05-B013P) | August 24, 2006; August 31, 2006; Daily Southtown | The Honorable Lawrence M. Walsh, Will County Executive, 302 North Chicago Street, Joliet, Illinois 60432 | November 30, 2006 | 170695
Indiana:
Bartholomew (FEMA Docket No.: B-7467) | Unincorporated Areas of Bartholomew County (06-05-BD86P) | May 18, 2006; May 25, 2006; The Republic | The Honorable Fred L. Armstrong, Mayor, City of Columbus, Columbus City Hall, 123 Washington Street, Columbus, Indiana 47201 | April 27, 2006 | 180007
Lake (FEMA Docket No.: B-7467) | Town of St. John (05-05-A422P) | July 20, 2006; July 27, 2006; Post-Tribune | Mr. Stephen Z. Kil, Manager, Town of St. John, 10955 West, 93rd Avenue, St. John, Indiana 46373 | October 26, 2006 | 180141
LaPorte (FEMA Docket No.: B-7467) | City of Michigan City (06-05-B876P) | July 20, 2006; July 27, 2006; The News-Dispatch | The Honorable Chuck Oberlie, Mayor, City of Michigan City, 100 East Michigan Boulevard, Michigan City, Indiana 46052 | July 31, 2006 | 180147
Marion (FEMA Docket No.: B-7467) | City of Indianapolis (05-05-0743P) | February 10, 2006; February 17, 2006; Indianapolis Recorder | The Honorable Bart Peterson, Mayor, City of Indianapolis, 2501 City-County Building, 200 East Washington Street, Indianapolis, Indiana 46204 | May 18, 2006 | 180159
Marion (FEMA Docket No.: B-7467) | City of Indianapolis (05-05-2979P) | April 20, 2006; April 27, 2006; Indianapolis Newspaper Daily Star | The Honorable Bart Peterson, Mayor, City of Indianapolis, 2501 City-County Building, 200 East Washington Street, Indianapolis, Indiana 46204 | May 4, 2006 | 180159
Kentucky:
Warren (FEMA Docket No.: B-7467) | City of Bowling Green (05-04-1251P) | March 30, 2006; April 6, 2006; Park City Daily News | The Honorable Elaine Walker, Mayor, City of Bowling Green, P.O. Box 430, Bowling Green, Kentucky 42101 | March 13, 2006 | 210219
Maine:
Cumberland (FEMA Docket No.: B-7467) | City of Falmouth (05-01-0287P) | June 22, 2006; June 29, 2006; Falmouth Community Leader | Mr. John D. Harris, Town Manager, Town of Falmouth, 71 Falmouth Road, Falmouth, Maine 04105 | September 28, 2006 | 230045
Michigan:
Kalamazoo (FEMA Docket No.: B-7467) | City of Kalamazoo (05-05-2181P) | June 22, 2006; June 29, 2006; The Kalamazoo Gazette | Mr. Kenneth P. Collard, City Manager, City of Kalamazoo, City Hall, 241 West South Street, Kalamazoo, Michigan 49007 | June 26, 2006 | 260315
Kalamazoo (FEMA Docket No.: B-7467) | City of Portage (05-05-2181P) | June 22, 2006; June 29, 2006; The Kalamazoo Gazette | Mr. Maurice S. Evans, City Manager, City of Portage, City Hall, 7900 South Westmedge Avenue, Portage, Michigan 49002 | June 26, 2006 | 260577
Wayne (FEMA Docket No.: B-7467) | Township of Canton (05-05-3132P) | February 16, 2006; February 23, 2006; Canton Eagle | The Honorable Thomas J. Yack, Supervisor, Township of Canton, 1150 South Canton Center Road, Canton, Michigan 48188 | January 26, 2006 | 260219
Minnesota:
Isanti (FEMA Docket No.: B-7467) | City of Isanti (04-05-B083P) | January 4, 2006; January 11, 2006; Isanti County News | The Honorable David Apitz, Mayor, City of Isanti, P.O. Box 126, Isanti, Minnesota 55040 | April 12, 2006 | 270199
Isanti (FEMA Docket No.: B-7467) | Unincorporated Areas of Isanti County (04-05-B083P) | January 4, 2006; January 11, 2006; Isanti County News | The Honorable Tom Pagel, Chair, Isanti County Board of Commissioners, Isanti County Government Center, 509-555 18th Avenue Southwest, Cambridge, Minnesota 55008 | April 12, 2006 | 270197
Mississippi:
Madison (FEMA Docket No.: B-7467) | City of Madison (06-04-B265P) | June 22, 2006; June 29, 2006; Madison County Journal | The Honorable Mary Hawkins Butler, Mayor, City of Madison, P.O. Box 40, Madison, Mississippi 39130 | May 26, 2006 | 280229
Madison (FEMA Docket No.: B-7467) | City of Madison (06-04-BC51P) | June 15, 2006; June 22, 2006; Madison County Journal | The Honorable Mary Hawkins Butler, Mayor, City of Madison, P.O. Box 40, Madison, Mississippi 39130-0040 | September 21, 2006 | 280229
Madison (FEMA Docket No.: B-7467) | Unincorporated Areas of Madison County (06-04-B265P) | June 22, 2006; June 29, 2006; Madison County Journal | The Honorable Timothy L. Johnson, President, Madison County Board of Supervisors, P.O. Box 608, Canton, Mississippi 39046 | May 26, 2006 | 280228
Simpson (FEMA Docket No.: B-7467) | City of Magee (05-04-1476P) | December 15, 2005; December 22, 2005;The Magee Courier | The Honorable Jimmy Clyde, Mayor, City of Magee, 123 Main Avenue North, Magee, Mississippi 39111 | November 22, 2005 | 280158
Ohio:
Butler (FEMA Docket No.: B-7466) | Unincorporated Areas of Butler County (05-05-A433P) | August 10, 2006; August 17, 2006; Middletown Journal | The Honorable Gregory V. Jolivette, County Commissioner, Butler County, 130 High Street, Sixth Street, Hamilton, Ohio 45011 | November 16, 2006 | 390037
Franklin (FEMA Docket No.: B-7466) | City of Reynoldsburg (05-05-3716P) | June 1, 2006; June 8, 2006; The Columbus Dispatch | The Honorable Ronald McPherson, Mayor, City of Reynoldsburg, 7232 East Main Street, Reynoldsburg, Ohio 43068 | May 10, 2006 | 390177
Franklin (FEMA Docket No.: B-7466) | Unincorporated Areas of Franklin County (05-05-3716P) | June 1, 2006; June 8, 2006; The Columbus Dispatch | The Honorable Mary Jo Kilroy, County Commissioner, Franklin County Board of Commissioners, 373 South High Street, Columbus, Ohio 43215 | May 10, 2006 | 390167
Hamilton (FEMA Docket No.: B-7466) | Unincorporated Areas of Hamilton County (05-05-3352P) | January 18,2006; January 25, 2006; Hilltop Press | The Honorable Phil Heimlich, Chairman, Hamilton County Board of Supervisors, 138 East Court Street, Room 603, Cincinnati, Ohio 45202 | April 26, 2006 | 390204
Lucas (FEMA Docket No.: B-7466) | Village of Berkey (05-05-3351P) | April 20, 2006; April 27, 2006; Toledo Legal News | The Honorable Barb Huff, Mayor, Village of Berkey, Village of Council Building, 12360 Sylvania-Metamore Road, Berkey, Ohio 43504 | July 27, 2006 | 390901
Lucas (FEMA Docket No.: B-7466) | Unincorporated Areas of Lucas County (05-05-3351P) | April 20, 2006; April 27, 2006; Toledo Legal News | The Honorable Tina Skeldon Wozniak, President, Lucas County Board of Commissioners, One Government Center, Suite 800, Toledo, Ohio 43604 | July 27, 2006 | 390359
Medina (FEMA Docket No.: B-7466) | City of Brunswick (06-05-B240P) | August 17, 2006; August 24, 2006; The Medina Gazette | The Honorable Dale Strasser, Mayor, City of Brunswick, 4095 Center Road, Brunswick, Ohio 44212 | November 23, 2006 | 390380
Montgomery (FEMA Docket No.: B-7466) | City of Clayton (05-05-2903P) | February 15, 2006; February 22, 2006; Englewood Independent | The Honorable Ted Gudorf, Mayor, City of Clayton, 14 West Fourth Street, Dayton, Ohio 45481 | May 24, 2006 | 390821
Montgomery (FEMA Docket No.: B-7466) | City of Englewood (05-05-2903P) | February 15, 2006; February 22, 2006; Englewood Independent | The Honorable Michael Bowers, Jr., Mayor, City of Englewood, 333 West National Road, Englewood, Ohio 45322-1495 | May 24, 2006 | 390828
Montgomery (FEMA Docket No.: B-7466) | City of Englewood (06-05-B499P) | July 5, 2006; July 12, 2006; Englewood Independent | The Honorable Michael Bowers, Jr., Mayor, City of Englewood, 333 West National Road, Englewood, Ohio 45322-1495 | October 11, 2006 | 390828
Montgomery (FEMA Docket No.: B-7466) | Unincorporated Areas of Montgomery County (05-05-4118P) | December 21, 2005; December 28, 2005; Englewood Independent | Ms. Deborah Feldman, Administrator, Montgomery County, 451 West Third Street, Dayton, Ohio 45422 | December 8, 2005 | 390775
Oklahoma:
Oklahoma (FEMA Docket No.: B-7474) | City of Edmond (06-06-BD47P) | October 26, 2006; November 2, 2006; The Edmond Sun | The Honorable Saundra Naifeh, Mayor, City of Edmond, P.O. Box 2970, Edmond, Oklahoma 73083 | February 1, 2007 | 400252
New Mexico:
Bernalillo (FEMA Docket No.: B-7466) | City of Albuquerque (06-06-B190P) | July 13, 2006; July 20, 2006; Albuquerque Journal | The Honorable Martin Chavez, Mayor, City of Albuquerque, P.O. Box 1293, Albuquerque, New Mexico 87103 | June 27, 2006 | 350002
Bernalillo (FEMA Docket No.: B-7466) | Unincorporated Areas of Bernalillo County (06-06-B190P) | July 13, 2006; July 20, 2006; The Albuquerque Journal | The Honorable Tim Cummins, County Commissioner, Bernalillo County, One Civic Plaza Northwest, 10th Floor, Albuquerque, New Mexico 87102 | June 27, 2006 | 350001
South Carolina:
Charleston (FEMA Docket No.: B-7466) | Town of Mount Pleasant (06-04-B002P) | February 15, 2006; February 22, 2006; Moultrie News | The Honorable Harry M. Hallman, Jr., Mayor, Town of Mount Pleasant, P.O. Box 745, Mount Pleasant, South Carolina 29465 | January 31, 2006 | 455417
Greenville (FEMA Docket No.: B-7466) | City of Simpsonville (05-04-A572P) | June 29, 2006; July 06, 2006; The Greenville News | The Honorable Dennis C. Waldrop, Mayor, City of Simpsonville, City Hall, 118 Northeast Main Street, Simpsonville, South Carolina 29681 | October 5, 2006 | 450092
Greenville (FEMA Docket No.: B-7466) | Unincorporated Areas of Greenville County (05-04-A572P) | June 29, 2006; July 6, 2006; The Greenville News | The Honorable Herman G. Kirven, Chairman, Greenville County Council, 313 League Road, Simpsonville, South Carolina 29681 | October 5, 2006 | 450089
Greenville (FEMA Docket No.: B-7466) | Unincorporated Areas of Greenville County (06-04-B011P) | May 20, 2006; May 25, 2006; The Greenville News | The Honorable Butch Kirven, Chairman, Greenville County Council, Greenville County Square, 301 University Ridge, Simpsonville, South Carolina 29601 | August 24, 2006 | 450089
Greenville (FEMA Docket No.: B-7466) | Unincorporated Areas of Greenville County (06-04-B012P) | May 20, 2006; May 26, 2006; The Greenville News | The Honorable Butch Kirven, Chairman, Greenville County Council, County Square, 301 University Ridge, Simpsonville, South Carolina 29601 | August 25, 2006 | 450089
Horry (FEMA Docket No.: B-7466) | Unincorporated Areas of Horry County (06-04-B138X) | December 22, 2005; December 29, 2005; Horry Independent | The Honorable Elizabeth Gilland, Chairman, Horry County Council, 1511 Elm Street, Conway, South Carolina 29526 | March 30, 2006 | 450104
Lancaster (FEMA Docket No.: B-7466) | Unincorporated Areas of Lancaster County (05-04-2990P) | February 2, 2006; February 9, 2006; The Herald | Mr. Chappell “Chap” Hurst, Jr., County Administrator, Lancaster County, P.O. Box 1809, Lancaster, South Carolina 29721 | May 11, 2006 | 450120
Richland (FEMA Docket No.: B-7466) | City of Columbia (05-04-A589P) | August 11, 2006; August 18, 2006; The Columbia Star | The Honorable Bob Cobble, Mayor, City of Columbia, P.O. Box 147, Columbia, South Carolina 29217 | November 17, 2006 | 450172
Richland (FEMA Docket No.: B-7466) | Town of Irmo (05-04-3485P) | May 18, 2006; May 25, 2006; The Irmo News | The Honorable John L. Gibbons, Mayor, Town of Irmo, P.O. Box 406, Irmo, South Carolina 29063 | August 24, 2006 | 450133
Richland (FEMA Docket No.: B-7466) | Unincorporated Areas of Richland County (05-04-3127P) | March 24, 2006; March 31, 2006; Columbia Star | Mr. T. Cary McSwaim, County Administrator, Richland County, P.O. Box 192, Columbia, South Carolina 29202 | February 24, 2006 | 450170
Richland (FEMA Docket No.: B-7466) | Unincorporated Areas of Richland County (05-04-3485P) | May 18, 2006; May 25, 2006; The Irmo News | The Honorable Tony Mizzell, Chair, Richland County Council, 2020 Hampton Street, Columbia, South Carolina 29202 | August 24, 2006 | 450170
Richland (FEMA Docket No.: B-7466) | Unincorporated Areas of Richland County (05-04-A589P) | August 11, 2006; August 18, 2006; The Columbia Star | Mr. J. Milton Pope, Interim County Administrator, Richland County, P.O. Box 192, Columbia, South Carolina 29202 | November 17, 2006 | 450170
York (FEMA Docket No.: B-7466) | Unincorporated Areas of York County (05-04-2990P) | February 2, 2006; February 9, 2006; The Herald | Mr. Alfred W. “Al” Greene, County Manager, York County, P.O. Box 66, York, South Carolina 29745 | May 11, 2006 | 450193
Tennessee:
Cheatham (FEMA Docket No.: B-7466) | Town of Ashland City (06-04-A705P) | May 18, 2006; May 25, 2006; The Ashland City Times | The Honorable Gary Norwood, Mayor, Town of Ashland City, P.O. Box 36, Ashland City, Tennessee 37015 | August 23, 2006 | 470027
Davidson (FEMA Docket No.: B-7466) | City of Forest Hills (05-04-A471P) | June 15, 2006; June 22, 2006; Nashville Record | The Honorable Charles K. Evers, Mayor, City of Forest Hills, 4012 Hillsboro Road, Suite 5, Nashville, Tennessee 37215 | September 21, 2006 | 470407
Davidson (FEMA Docket No.: B-7466) | Metropolitan Government of Nashville and Davidson County (05-04-2201P) | January 26, 2006; February 2, 2006; Nashville Record | The Honorable Bill Purcell, Mayor, Metropolitan Government of Nashville and Davidson County, 107 Metropolitan Courthouse, Nashville, Tennessee 37201 | January 12, 2006 | 470040
Davidson (FEMA Docket No.: B-7466) | Metropolitan Government of Nashville and Davidson County (06-04-B137P) | March 23, 2006; March 30, 2006; Nashville Record | The Honorable Bill Purcell, Mayor, Metropolitan Government of Nashville and Davidson County, Metro City Hall, 225 Polk Avenue, Nashville, Tennessee 37203 | June 29, 2006 | 470040
Henry (FEMA Docket No.: B-7466) | City of Paris (05-04-3184P) | March 30, 2006; April 6, 2006; Paris Post-Intelligencer | The Honorable Larry Crawford, Mayor, City of Paris, P.O. Box 970, Paris, Tennessee 38242 | July 06, 2006 | 470090
Rutherford (FEMA Docket No.: B-7466) | Unincorporated Areas of Rutherford County (06-04-B427P) | May 25, 2006; June 1, 2006; The Tennessean | The Honorable Nancy R. Allen, County Executive, Rutherford County, County Courthouse, Room 101, Murfreesboro, Tennessee 37130 | August 24, 2006 | 470165
Shelby (FEMA Docket No.: B-7466) | Town of Collierville (06-04-B865P) | August 24, 2006; August 31, 2006; The Daily News | The Honorable Linda Kerley, Mayor, Town of Collierville, 500 Poplar View Parkway, Collierville, Tennessee 38017 | July 31, 2006 | 470263
Shelby (FEMA Docket No.: B-7466) | City of Memphis (05-04-0247P) | August 21, 2006; August 28, 2006; The Commercial Appeal | The Honorable Willie W. Herenton, Mayor, City of Memphis, City Hall, 125 North Main Street, Room 700, Memphis, Tennessee 38103 | July 28, 2006 | 470177
Shelby (FEMA Docket No.: B-7466) | Unincorporated Areas of Shelby County (06-04-B865P) | August 24, 2006; August 31, 2006; The Daily News | The Honorable A.C. Wharton, Jr., Mayor, Shelby County, 160 North Main Street, Suite 850, Memphis, Tennessee 38103 | July 31, 2006 | 470214
Texas:
Angelina (FEMA Docket No.: B-7466) | City of Lufkin (05-06-0240P) | March 16, 2006; March 23, 2006; The Lufkin Daily News | The Honorable Louis A. Bronaugh, Mayor, City of Lufkin, P.O. Box 190, Lufkin, Texas 75902-0190 | June 22, 2006 | 480009
Bell (FEMA Docket No.: B-7466) | City of Killeen (05-06-0514P) | March 23, 2006; March 30, 2006; Killeen Daily Herald | The Honorable Maureen Jouett, Mayor, City of Killeen, 101 North College Street, Third Floor, Killeen, Texas 76541 | March 1, 2006 | 480031
Bexar (FEMA Docket No.: B-7466) | City of San Antonio (05-06-1455P) | August 24, 2006; August 31, 2006; Daily Commercial Recorder | The Honorable Phil Hardberger, Mayor, City of San Antonio, P.O. Box 839966, San Antonio, Texas 78283-3966 | September 7, 2006 | 480045
Bexar (FEMA Docket No.: B-7466) | City of San Antonio (06-06-B641P) | July 21, 2006; July 28, 2006; Daily Commercial Recorder | The Honorable Phil Hardberger, Mayor, City of San Antonio, P.O. Box 839966, San Antonio, Texas 78283-3966 | October 27, 2006 | 480045
Bexar (FEMA Docket No.: B-7466) | Unincorporated Areas of Bexar County (05-06-1445P) | January 12, 2006; January 19, 2006; Daily Commercial Recorder | The Honorable Nelson W. Wolff, Bexar County Judge, Bexar County Courthouse, 100 Dolorosa, Suite 120, San Antonio, Texas 78205 | January 5, 2006 | 480035
Bexar (FEMA Docket No.: B-7466) | Unincorporated Areas of Bexar County (05-06-A520P) | July 14, 2006; July 21, 2006; Daily Commercial Recorder | The Honorable Nelson W. Wolff, Bexar County Judge, Bexar County Courthouse, 100 Dolorosa, Suite 1.20, San Antonio, Texas 78205 | October 20, 2006 | 480035
Bexar (FEMA Docket No.: B-7466) | Unincorporated Areas of Bexar County (06-06-B271P) | June 22, 2006; June 29, 2006; Daily Commercial Recorder | The Honorable Nelson W. Wolff, Bexar County Judge, Bexar County Courthouse, 100 Dolorosa, Suite 1.20, San Antonio, Texas 78205 | May 31, 2006 | 480035
Collin (FEMA Docket No.: B-7466) | City of Allen (06-06-B418P) | July 27, 2006; August 3, 2006; The Allen American | The Honorable Stephen Terrell, Mayor, City of Allen, City Hall, 305 Century Parkway, Allen, Texas 75002 | November 2, 2006 | 480131
Collin (FEMA Docket No.: B-7466) | City of Allen (06-06-B430P) | August 17, 2006; August 24, 2006; The Allen American | The Honorable Stephen Terrell, Mayor, City of Allen, City Hall, 305 Century Parkway, Allen, Texas 75002 | July 31, 2006 | 480131
Collin (FEMA Docket No.: B-7466) | City of Frisco (06-06-B193P) | September 1, 2006; September 8, 2006; Frisco Enterprise | The Honorable Mike Simpson, Mayor, City of Frisco, 6891 Main Street, Frisco, Texas 75034 | August 24, 2006 | 480134
Collin (FEMA Docket No.: B-7474) | City of McKinney (06-06-BD88P) | September 21, 2006; September 28, 2006; McKinney Courier Gazette | The Honorable Bill Whitfield, Mayor, City of McKinney, 222 North Tennessee, McKinney, Texas 75069 | October 2, 2006 | 480135
Dallas (FEMA Docket No.: B-7466) | City of Carrollton (05-06-0086P) | April 5, 2006; April 12, 2006; Carrollton Leader | The Honorable Becky Miller, Mayor, City of Carrollton, 945 East Jackson Road, Carrollton, Texas 75006 | July 12, 2006 | 480167
Dallas (FEMA Docket No.: B-7466) | City of Garland (05-06-A172P) | July 20, 2006; July 27, 2006; The Daily Commercial Record | The Honorable Bob Day, Mayor, City of Garland, P.O. Box 469002, Garland, Texas 75046 | October 26, 2006 | 485471
Dallas (FEMA Docket No.: B-7466) | City of Garland (06-06-B043P) | June 22, 2006; June 29, 2006; The Daily Commercial Record | The Honorable Bob Day, Mayor, City of Garland, P.O. Box 469002, Garland, Texas 75046 | May 31, 2006 | 485471
Dallas (FEMA Docket No.: B-7466) | City of Sachse (06-06-B043P) | June 22, 2006; June 29, 2006; The Daily Commercial Record | The Honorable Michael Felis, Mayor, City of Sachse, 5560 State Highway 78, Sachse, Texas 75048 | May 31, 2006 | 480186
Dallas (FEMA Docket No.: B-7466) | Unincorporated Areas of Dallas County (05-06-A509P) | May 5, 2006; May 11, 2006; Dallas Morning News | The Honorable Margaret Keliher, Judge, Dallas County, Administration Office, 411 Elm Street, Dallas, Texas 75202 | April 19, 2006 | 480165
Denton (FEMA Docket No.: B-7466) | Unincorporated Areas of Denton County (05-06-1429P) | April 20, 2006; April 27, 2006; Fort Worth Star-Telegram | The Honorable Mary Horn, Denton County Judge, 110 West Hickory Street, Second Floor, Denton, Texas 76201 | July 27, 2006 | 480774
Denton & Tarrant (FEMA Docket No.: B-7466) | Unincorporated Areas of Tarrant County (05-06-1429P) | April 20, 2006; April 27, 2006; Fort Worth Star-Telegram | The Honorable Tom Vandergriff, Tarrant County Judge,100 East Weatherford, Suite 502 A, Fort Worth, Texas 76196 | July 27, 2006 | 480582
Ellis (FEMA Docket No.: B-7466) | Unincorporated Areas of Ellis County (05-06-A558P) | April 13, 2006; April 20, 2006; The Ellis County Press | The Honorable Chad Adams, Judge, Ellis County, 101 West Main Street, Waxahachie, Texas 75165 | July 20, 2006 | 480798
Ellis (FEMA Docket No.: B-7466) | City of Waxahachie (06-06-B466P) | June 21, 2006; June 28, 2006; Waxahachie Daily Light | The Honorable Jay Barksdale, Mayor, City of Waxahachie, P.O. Box 757, Waxahachie, Texas 75168-0757 | September 27, 2006 | 480211
Harris (FEMA Docket No.: B-7466) | Unincorporated Areas of Harris County (05-06-1299P) | March 16, 2006; April 6, 2006; Houston Chronicle | The Honorable Robert Eckels, Harris County Judge, 1001 Preston, Suite 911, Houston, Texas 77002 | June 22, 2006 | 480287
Harris (FEMA Docket No.: B-7474) | Unincorporated areas of Harris County (06-06-B330P) | October 26, 2006; November 2, 2006; Houston Chronicle | The Honorable Robert Eckels, Harris County Judge, 1001 Preston, Suite 911, Houston, TX 77002 | September 29, 2006 | 480287
Hays (FEMA Docket No.: B-7474) | City of Kyle (06-06-B463P) | October 18, 2006; October 25, 2006; The Free Press | The Honorable Miguel Gonzalez, Mayor, City of Kyle, P.O. Box 40, Kyle, TX 78640 | Jauary 25, 2007 | 481108
Johnson (FEMA Docket No.: B-7474) | City of Burleson (06-06-A711P) | October 19, 2006; October 26, 2006; Fort Worth Star-Telegram | The Honorable Kenneth Shetter, Mayor, City of Burleson, 141 West Renfro Street, Burleson, TX 76028 | January 25, 2007 | 485459
Jones and Taylor (FEMA Docket No.: B-7466) | City of Abilene (05-06-1712P) | January 26, 2006; February 2, 2006; Abilene Reporter News | The Honorable Norm Archibald, Mayor, City of Abilene, 717 Byrd Drive, Abilene, Texas 79601 | May 4, 2006 | 485450
Kendall (FEMA Docket No.: B-7466) | Unincorporated Areas of Kendall County (04-06-A211P) | August 22, 2006; August 29, 2006; The Boerne Star | The Honorable Eddie John Vogt, Kendall County Judge, 204 East San Antonio Street, Boerne, Texas 78006 | November 28, 2006 | 480417
Lubbock (FEMA Docket No.: B-7466) | City of Wolfforth (05-06-0566P) | February 2, 2006; February 9, 2006; Lubbock Avalanche-Journal | The Honorable L.C. Childers, Mayor, City of Wolfforth, P.O. Box 36, Wolfforth, Texas 79382 | May 11, 2006 | 480918
Medina (FEMA Docket No.: B-7466) | Unincorporated Areas of Medina County (06-06-BB97P) | August 24, 2006; August 31, 2006; Hondo Anvil Herald | The Honorable James E. Barden, Medina County Judge, Medina County Courthouse, 1100 16th Street, Room 101, Hondo, Texas 78861 | July 31, 2006 | 480472
Rockwall (FEMA Docket No.: B-7466) | City of Royse (05-06-A064P) | April 12, 2006; April 19, 2006; Royse City Herald Banner | The Honorable Jim Mellody, Mayor, City of Royse City, P.O. Box 638, Royse City, Texas 75189 | July 20, 2006 | 480548
Tarrant (FEMA Docket No.: B-7466) | City of Arlington (05-06-0568P) | April 20, 2006; April 27, 2006; Fort Worth Star-Telegram | The Honorable Dr. Robert N. Cluck, Mayor, City of Arlington, 101 West Abram Street, Arlington, Texas 76004-0231 | July 27, 2006 | 485454
Tarrant (FEMA Docket No.: B-7466) | City of Benbrook (05-06-0711P) | February 2, 2006; February 9, 2006; Benbrook News | The Honorable Jerry B. Dittrich, Mayor, City of Benbrook, 911 Winscott Road, Benbrook, Texas 76126 | May 11, 2006 | 480586
Tarrant (FEMA Docket No.: B-7466) | City of Dalworthington Gardens (05-06-0568P) | April 20, 2006; April 27, 2006; Fort Worth Star-Telegram | The Honorable Albert Taub, Mayor, City of Dalworthington Gardens, 2600 Roosevelt Drive, Arlington, Texas 76016 | July 27, 2006 | 480013
Tarrant (FEMA Docket No.: B-7466) | City of Fort Worth (05-06-0767P) | December 8, 2005; December 15, 2005; Fort Worth Star-Telegram | The Honorable Michael J. Moncrief, Mayor, City of Fort Worth, 1000 Throckmorton Street, Fort Worth, Texas 76102 | March 16, 2006 | 480596
Tarrant (FEMA Docket No.: B-7466) | City of Fort Worth (05-06-A227P) | January 12, 2006; January 19, 2006; Fort Worth Star-Telegram | The Honorable Michael J. Moncrief, Mayor, City of Fort Worth, 1000 Throckmorton Street, Fort Worth, Texas 76102 | April 20, 2006 | 480596
Tarrant (FEMA Docket No.: B-7466) | City of Fort Worth (05-06-A230P) | August 24, 2006; August 31, 2006; Fort Worth Star-Telegram | The Honorable Michael J. Moncrief, Mayor, City of Fort Worth, 1000 Throckmorton Street, Fort Worth, Texas 76102 | November 30, 2006 | 480596
Tarrant (FEMA Docket No.: B-7474) | City of Fort Worth (05-06-A327P) | May 11, 2006; May 18, 2006; Fort Worth Star-Telegram | The Honorable Michael J. Moncrief, Mayor, City of Fort Worth, 1000 Throckmorton Street, Fort Worth, TX 76102 | August 17, 2006 | 480596
Tarrant (FEMA Docket No.: B-7474) | City of Fort Worth (06-06-A711P) | October 19, 2006; October 26, 2006; Fort Worth Star-Telegram | The Honorable Michael J. Moncrief, Mayor, City of Fort Worth, 1000 Throckmorton Street, Fort Worth, TX 76102 | January 25, 2007 | 480596
Tarrant (FEMA Docket No.: B-7466) | City of Fort Worth (06-06-B207P) | August 17, 2006; August 24, 2006; Fort Worth Star-Telegram | The Honorable Michael J. Moncrief, Mayor, City of Fort Worth, 1000 Throckmorton Street, Fort Worth, Texas 76102 | November 23, 2006 | 480596
Tarrant (FEMA Docket No.: B-7466) | City of Fort Worth (06-06-B029P) | August 24, 2006; August 31, 2006; Fort Worth Star-Telegram | The Honorable Michael J. Moncrief, Mayor, City of Fort Worth, 1000 Throckmorton Street, Fort Worth, Texas 76102 | July 31, 2006 | 480596
Tarrant (FEMA Docket No.: B-7466) | City of Fort Worth (06-06-BD72P) | August 24, 2006; August 31, 2006; Fort Worth Star-Telegram | The Honorable Michael J. Moncrief, Mayor, City of Fort Worth, 1000 Throckmorton Street, Fort Worth, Texas 76102 | July 31, 2006 | 480596
tarrant (FEMA Docket No.: B-7474) | City of Fort Worth (06-06-B569P) | May 18, 2006; May 25, 2006; Fort Worth Star-Telegram | The Honorable Michael J. Moncrief, Mayor, City of Fort Worth, 1000 Throckmorton Street, Fort Worth, TX 76102-6311 | August 24, 2006 | 480596
Tarrant (FEMA Docket No.: B-7466) | City of Fort Worth (06-06-B570P) | July 13, 2006; July 20, 2006; Fort Worth Star-Telegram | The Honorable Michael J. Moncrief, Mayor, City of Fort Worth, 1000 Throckmorton Street, Fort Worth, Texas 76102 | October 19, 2006 | 480596
Tarrant (FEMA Docket No.: B-7466) | City of Saginaw (06-06-B837P) | July 27, 2006; August 3, 2006; Northwest Tarrant County Times-Record | The Honorable Gary Brinkley, Mayor, City of Saginaw, 333 West McLeroy Boulevard, Saginaw, Texas 76179 | August 11, 2006 | 480610
Tarrant (FEMA Docket No.: B-7474) | Unincorporated areas of Tarrant County (05-06-A327P) | May 11, 2006; May 18, 2006; Fort Worth Star-Telegram | The Honorable Tom Vandergriff, Tarrant County Judge, 100 East Weatherford, Fort Worth, TX 76196 | August 17, 2006 | 480582
Tarrant (FEMA Docket No.: B-7474) | Unincorporated areas of Tarrant County (06-06-A711P) | October 19, 2006; October 26, 2006; Fort Worth Star-Telegram | The Honorable Tom Vandergriff, Tarrant County Judge, 100 East Weatherford, Suite 502A, Fort Worth, TX 76196 | January 25, 2007 | 480582
Travis (FEMA Docket No.: B-7466) | City of Austin (05-06-A031P) | July 27, 2006; August 3, 2006; Austin American-Statesman | The Honorable Will Wynn, Mayor, City of Austin, P.O. Box 1088, Austin, Texas 78767 | June 30, 2006 | 480624
Travis (FEMA Docket No.: B-7466) | Unincorporated Areas of Travis County (05-06-A031P) | July 27, 2006; August 3, 2006; Austin American-Statesman | The Honorable Samuel T. Biscoe, Travis County Judge, P.O. Box 1748, Austin, Texas 78767-1748 | June 30, 2006 | 481026
Wisconsin:
Milwaukee and Washington (FEMA Docket No.: B-7466) | City of Milwaukee (04-05-A652P) | February 23, 2006; March 2, 2006; Milwaukee Journal Sentinel | The Honorable Tom Barrett, Mayor, City of Milwaukee, City Hall, Room 201, 200 East Wells Street, Milwaukee, Wisconsin 53202 | June 1, 2006 | 550278
Pierce (FEMA Docket No.: B-7466) | Village of Plum City (05-05-1545P) | August 16, 2006; August 23, 2006; Pierce County Herald | The Honorable Douglas E. Watkins, Village President, Village of Plum City, P.O. Box 207, Plum City, Wisconsin 54761 | November 23, 2006 | 550328
Outagamie (FEMA Docket No.: B-7466) | Unincorporated Areas of Outagamie County (05-05-A000P) | June 1, 2006; June 8, 2006; The Post-Crescent | The Honorable Toby Paltzer, County Executive, Outagamie County, 410 South Walnut Street, Appleton, Wisconsin 54911 | April 28, 2006 | 550302

(Catalog of Federal Domestic Assistance No. 83.100, “Flood Insurance.”)
Dated: April 10, 2007.
David I. Maurstad,
Federal Insurance Administrator of the National Flood Insurance Program, Federal Emergency Management Agency, Department of Homeland Security.

[FR Doc. 07-1979 Filed 4-23-07; 8:45 am]

BILLING CODE 9110-12-P